DEPARTMENT OF ENERGY

Federal Energy Regulatory Commission

[Project No. 2114-117]

Public Utility District No. 2 of Grant County; Notice of Availability of Environmental Assessment

July 27, 2004.

In accordance with the National Environmental Policy Act of 1969 and the Federal Energy Regulatory Commission's (Commission) regulations, 18 CFR part 380 (Order No. 486, 52 FR 47897), the Office of Energy Projects has prepared an Environmental Assessment (EA) for an amendment application requesting Commission approval to replace 10 turbines at the Wanapum development with 10 new, upgraded turbines. The Wanapum development is part of the Priest Rapids Project. The project is located on the Columbia River in Grant, Yakima, Kittitas, Douglas, Benton, and Chelan counties, Washington, and occupies federal lands.

The EA contains staff's analysis of the potential environmental impacts associated with the installation of 10 new advance turbines and concludes that the proposed amendment would not constitute a major Federal action that would significantly affect the quality of the human environment.

A copy of the EA is attached to the July 23, 2004, Commission Order titled “Order Modifying and Approving Amendment of License Application and Revising Annual Charges,” which is available for review and reproduction at the Commission's Public Reference Room, located at 888 First Street, NE., Room 2A, Washington, DC 20426. The EA may also be viewed on the Commission's Web site at http://www.ferc.gov using the “eLibrary” link. Enter the docket number (prefaced by P-) in the docket number field to access the document. For assistance, contact FERC On-Line Support at FERCOnlineSupport@ferc.gov or call toll free at (866) 208-3676, or for TTY contact (202) 502-8659.

Magalie R. Salas,
Secretary.

[FR Doc. E4-1705 Filed 8-2-04; 8:45 am]

BILLING CODE 6717-01-P